ENVIRONMENTAL PROTECTION AGENCY

40 CFR Part 52

[EPA-R05-OAR-2010-0671; FRL-9633-4]

Approval and Promulgation of Air Quality Implementation Plans; Illinois; Volatile Organic Compound Emission Control Measures for Chicago and Metro-East St. Louis Ozone Nonattainment Areas

AGENCY: Environmental Protection Agency (EPA).

ACTION: Final rule.

SUMMARY: EPA is approving, under the Clean Air Act (the Act), revisions to the Illinois State Implementation Plan (SIP) submitted on July 29, 2010, September 16, 2011 and September 29, 2011. The purpose of these rules is to satisfy the Act's requirement that States revise their SIPs to include reasonably available control technology (RACT) for sources of volatile organic compound (VOC) emissions in moderate ozone nonattainment areas. Illinois' VOC rules provide RACT requirements for the Chicago and Metro-East St. Louis 8-hour ozone nonattainment areas. These rules are approvable because they are consistent with the Control Technique Guideline (CTG) documents issued by EPA in 2006, 2007 and 2008 and satisfy the RACT requirements of the Act. EPA proposed this rule for approval on November 30, 2011 and received comments from Illinois EPA.

DATES: This final rule is effective on April 23, 2012.

ADDRESSES: EPA has established a docket for this action under Docket ID EPA-R05-OAR-2010-0671. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal, Environmental Engineer, at (312) 886-6052 before visiting the Region 5 office.

FOR FURTHER INFORMATION CONTACT: Steven Rosenthal, Environmental Engineer, Air Planning and Maintenance Section, Air Programs Branch (AR-18J), Environmental Protection Agency, Region 5, 77 West Jackson Boulevard, Chicago, Illinois 60604, (312) 886-6052.

SUPPLEMENTARY INFORMATION: Throughout this document whenever “we,” “us,” or “our” is used, we mean EPA. This supplementary information section is arranged as follows:

I. What public comments were received on the proposed approval?

II. What action is EPA taking today and what is the basis of this action?

III. Statutory and Executive Order Reviews

I. What public comments were received on the proposed approval?

EPA proposed this rule for approval on November 30, 2011 and received comments from Illinois EPA. Illinois EPA submitted comments in support of this rule on December 16, 2011. In its comments Illinois identified the following errors (with the appropriate corrections) that were made in the November 30, 2011 proposed approval. These corrections are:

(1) Page 74015, Section IV, Subsection (1): The title should reference Part 211 instead of Section 211.

(2) Page 74015, Section IV, Subsection (3): The end of the first paragraph implies that Illinois' surface coating regulations at 35 Ill. Adm. Code 218.208 and 219.208 allow an equivalent applicability threshold of 2.7 tons of VOM per 12 month rolling period. Illinois' rules contain no such equivalent threshold.

(3) Pages 74015-74016, Section IV, Subsections (3) and (5): In the titles, the second set of section references should be to Part 219, not 218.

(4) Page 74016, Section IV, Subsection (6): In the title, Illinois' regulations specific to fiberglass boat manufacturing materials are contained in 35 Ill. Adm. Code 218.890 to 894 and 219.890 to 894. Sections 895 to 899 are (unofficially) reserved, and Sections 900 to 904 regard miscellaneous industrial adhesives.

EPA agrees with Illinois' corrected description of its rules.

II. What action is EPA taking today and what is the basis of this action?

EPA is taking final action to approve into Illinois' SIP volatile organic material (VOM), which is the same as volatile organic compound, RACT rules for the Chicago and Metro-East St. Louis 8-hour ozone nonattainment areas that were submitted on July 29, 2010, September 16, 2011 and September 29, 2011. The purpose of these rules is to satisfy the Act's requirement that States revise their SIPs to include RACT for sources of VOC emissions in moderate ozone nonattainment areas. Illinois' VOM rules provide RACT requirements for the Chicago and Metro-East St. Louis 8-hour ozone nonattainment areas. With respect to Illinois EPA's second comment, it should be noted that Illinois' VOM coating rules have a 15 pounds VOM/day applicability cutoff which is consistent with EPA VOC RACT guidance. Although EPA's coating CTGs allow an alternative applicability cutoff of 2.7 tons VOC/year, this alternative is not required. These rules are approvable because they are consistent with the CTG documents issued by EPA in 2006, 2007 and 2008 and satisfy the RACT requirements of the Act.

III. Statutory and Executive Order Reviews

Under the Act, the Administrator is required to approve a SIP submission that complies with the provisions of the Act and applicable Federal regulations. 42 U.S.C. 7410(k); 40 CFR 52.02(a). Thus, in reviewing SIP submissions, EPA's role is to approve state choices, provided that they meet the criteria of the Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Act, petitions for judicial review of this action must be filed in the United States Court of Appeals for the appropriate circuit by May 22, 2012. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: January 31, 2012.
Susan Hedman,
Regional Administrator, Region 5.

40 CFR part 52 is amended as follows:

PART 52—[AMENDED]

1. The authority citation for part 52 continues to read as follows:

Authority: 42 U.S.C. 7401 et seq.

Subpart O—Illinois

2. Section 52.720 is amended by adding paragraph (c) (189) to read as follows:

§ 52.720 Identification of plan.

* * * * *

(c) * * *

(189) On July 29, 2010, September 16, 2011 and September 29, 2011 Illinois submitted VOM RACT rules for the Chicago and Metro-East St. Louis 8-hour ozone nonattainment areas. These rules are consistent with the Control Technique Guideline documents issued by EPA in 2006, 2007 and 2008 and satisfy the RACT requirements of the Act. On February 28, 2011, Illinois EPA submitted a confirmation that the sewage treatment plant exemption in Subpart TT of Parts 218 and 219 does not apply to industrial wastewater. This clarification clearly establishes that VOM emissions from major non-CTG industrial wastewater operations are regulated by Subpart TT.

(i) Incorporation by reference. The following sections of Illinois Administrative Code, Title 35: Environmental Protection, Subtitle B: Air Pollution, Chapter 1: Pollution Control Board, Subchapter c: Emission Standards and Limitations for Stationary Sources, are incorporated by reference:

(A) Part 211: Definitions and General Provisions, Sections 211.1000, 211.1745, 211.1878, 211.1885, 211.2359, 211.2368, 211.2615, 211.2830, 211.2840, 211.2965, 211.3215, 211.3305, 211.3555, 211.3705, 211.3707, 211.4065, 211.5335, 211.5535, 211.5585, 211.5860, 211.5875, 211.5885, 211.6405, 211.6425, 211.6535, 211.7290; effective June 25, 2010.

(B) Part 211: Definitions and General Provisions, Sections 211.101, 211.102, 211.200, 211.233, 211.235, 211.260, 211.481, 211.492, 211.540, 211.715, 211.735, 211.820, 211.825, 211.880, 211.954, 211.965, 211.1128, 211.1455, 211.1560, 211.1565, 211.1655, 211.1700, 211.1872, 211.1876, 211.1877, 211.1880, 211.1882, 211.1883, 211.2040, 211.2055, 211.2210, 211.2310, 211.2320, 211.2360, 211.2369, 211.2415, 211.2525, 211.2622, 211.2825, 211.2955, 211.2956, 211.2958, 211.2960, 211.2980, 211.3095, 211.3120, 211.3240, 211.3505, 211.3665, 211.3760, 211.3775, 211.3785, 211.3820, 211.3925, 211.3961, 211.3966, 211.3967, 211.3968, 211.3969, 211.3975, 211.4052, 211.4080, 211.4220, 211.4285, 211.4455, 211.4540, 211.4735, 211.4760, 211.4765, 211.4768, 211.4769, 211.4895, 211.4900, 211.5012, 211.5061, 211.5062, 211.5075, 211.5090, 211.5400, 211.5520, 211.5550, 211.5800, 211.5890, 211.5985, 211.5987, 211.6012, 211.6015, 211.6017, 211.6020, 211.6063, 211.6065, 211.6400, 211.6427, 211.6460, 211.6585, 211.6640, 211.6670, 211.6690, 211.6720, 211.6740, 211.6780, 211.6825, 211.6885, 211.7220, 211.7240; effective September 14, 2010.

(C) Part 211: Definitions and General Provisions, Sections 211.493, 211.2200, 211.2358, 211.2800, 211.3985, 211.4460, 211.5140, 211.6587, 211.6635; effective July 27, 2011.

(D) Part 218: Organic Material Emission Standards and Limitations for the Chicago Area, Subpart F: Coating Operations, Section 218.218; effective March 23, 2010.

(E) Part 218: Organic Material Emission Standards and Limitations for the Chicago Area, Subpart E: Solvent Cleaning, Section 218.181, Subpart H: Printing and Publishing, Sections 218.403, 218.405, 218.406, 218.407, 218.408, 218.410, 218.412, 218.413, 218.416; effective June 25, 2010.

(F) Part 218: Organic Material Emission Standards and Limitations for the Chicago Area, Subpart A: General Provisions, Sections 218.106, 218.112, Subpart F: Coating Operations, Sections 218.205, 218.208, 218.210, 218.212, 218.219, Subpart II: Fiberglass Boat Manufacturing Materials, Section 218.890, Subpart JJ: Miscellaneous Industrial Adhesives, Section 218.900; effective September 14, 2010.

(G) Part 218: Organic Material Emission Standards and Limitations for the Chicago Area, Subpart A: General Provisions, Section 218.105, Subpart E: Solvent Cleaning, Section 218.187, Subpart F: Coating Operations, Sections 218.204, 218.207, 218.211, 218.217, Subpart H: Printing and Publishing, Sections 218.401, 218.402, 218.404, 218.409, 218.411, 218.415, 218.417, Subpart II: Fiberglass Boat Manufacturing Materials, Sections 218.891, 218.892, 218.894, Subpart JJ: Miscellaneous Industrial Adhesives, Sections 218.901, 218.902, 218.903, 218.904; effective July 27, 2011.

(H) Part 219: Organic Material Emission Standards and Limitations for the Metro East Area, Subpart F: Coating Operations, Section 219.218; effective March 23, 2010.

(I) Part 219: Organic Material Emission Standards and Limitations for the Metro East Area, Subpart E: Solvent Cleaning, Section 219.181, Subpart H: Printing and Publishing, Sections 219.402, 219.403, 219.405, 219.406, 219.407, 219.408, 219.410, 219.412, 219.413, 219.416; effective June 25, 2010.

(J) Part 219: Organic Material Emission Standards and Limitations for the Metro East Area, Subpart A: General Provisions, Sections 219.106, 219.112, Subpart F: Coating Operations, Sections 219.205, 219.208, 219.210, 219.212, 219.219, Subpart II: Fiberglass Boat Manufacturing Materials, Section 219.890, Subpart JJ: Miscellaneous Industrial Adhesives, Section 219.900; effective September 14, 2010.

(K) Part 219: Organic Material Emission Standards and Limitations for the Metro East Area, Subpart A: General Provisions, Section 219.105, Subpart E: Solvent Cleaning, Section 219.187, Subpart F: Coating Operations, Sections 219.204, 219.207, 219.211, 219.217, Subpart H: Printing and Publishing, Sections 219.401, 219.404, 219.409, 219.411, 219.415, 219.417, Subpart II: Fiberglass Boat Manufacturing Materials, Sections 219.891, 219.892, 219.894, Subpart JJ: Miscellaneous Industrial Adhesives, Sections 219.901, 219.902, 219.903, 219.904; effective July 27, 2011.

(ii) Additional material. On February 28, 2011, Illinois EPA submitted an email confirmation that the sewage treatment plant exemption in Subpart TT of Parts 218 and 219 does not apply to industrial wastewater.

[FR Doc. 2012-6938 Filed 3-22-12; 8:45 am]

BILLING CODE 6560-50-P